DEPARTMENT OF TRANSPORTATION

Federal Aviation Administration

14 CFR Part 71

[Docket No. FAA-2023-0501; Airspace Docket No. 23-AWP-3]

RIN 2120-AA66

Amendment of Very High Frequency (VHF) Omnidirectional Range (VOR) Federal Airways V-6, V-338, V-494, and United States Area Navigation (RNAV) Route T-331

AGENCY: Federal Aviation Administration (FAA), DOT.

ACTION: Final rule.

SUMMARY: This action amends the Very High Frequency (VHF) Omnidirectional Range (VOR) Federal airways V-6, V-338, V-494, and United States Area Navigation (RNAV) route T-331 descriptions to reflect the Squaw Valley, CA, VOR/Distance Measuring Equipment (DME) navigational aid (NAVAID) name changing to the Palisades, CA, VOR/DME. This action only makes editorial amendments to the affected Air Traffic Service (ATS) routes listed above, it does not change the NAVAID identifier (SWR), the ATS route structures, or the Fixes and waypoints on the routes.

DATES: Effective date 0901 UTC, August 10, 2023. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the VOR Federal airway V-6, V-338, and V-494, and RNAV route T-331 descriptions.

Incorporation by Reference

Domestic VOR Federal airways and United States Area Navigation Routes are published in paragraphs 6010 and 6011, respectively, of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by updating references to the Squaw Valley, CA, VOR/DME in VOR Federal airways V-6, V-338, V-494, and RNAV route T-331 descriptions with its new name, the Palisades, CA, VOR/DME. This action is necessary in order to reflect the NAVAID name change of the Squaw Valley VOR/DME to the Palisades VOR/DME being made in the National Airspace System Resource database concurrent with the effective date of this rule. This is an editorial change only and does not change the affected ATS route structures or the location of any Fixes or waypoints on the routes. Therefore, notice and public procedures under 5 U.S.C. 553(b) are unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that the editorial amendments to the descriptions of VOR Federal airways V-6, V-338, V-494, and RNAV route T-331 are due to the Squaw Valley, CA, VOR/DME navigational aid (NAVAID) name changing to the Palisades, CA, VOR/DME. qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-6 [Amended]

From Oakland, CA; INT Oakland 039° and Sacramento, CA, 212° radials; Sacramento; Palisades, CA; Mustang, NV; Lovelock, NV; Battle Mountain, NV; INT Battle Mountain 062° and Wells, NV, 256° radials; Wells; 5 miles, 40 miles, 98 MSL, 85 MSL, Lucin, UT; 43 miles, 85 MSL, Ogden, UT; 11 miles, 50 miles, 105 MSL, Fort Bridger, WY; Rock Springs, WY; 20 miles, 39 miles, 95 MSL, Cherokee, WY; 39 miles, 27 miles, 95 MSL, Medicine Bow, WY; INT Medicine Bow 106° and Sidney, NE, 291° radials; Sidney; North Platte, NE; Grand Island, NE; Omaha, IA; Des Moines, IA; Iowa City, IA; Davenport, IA; INT Davenport 087° and DuPage, IL, 255° radials; to DuPage. From INT Chicago Heights, IL, 358° and Gipper, MI, 271° radials; to Gipper. From Philipsburg, PA; Selinsgrove, PA; Allentown, PA; Solberg, NJ; INT Solberg 107° and Yardley, PA, 068° radials; INT Yardley 068° and La Guardia, NY, 213° radials; to La Guardia.

* * * * *

V-338 [Amended]

From Linden, CA; Hangtown, CA; to Palisades, CA.

* * * * *

V-494 [Amended]

From Crescent City, CA; INT Crescent City 195° and Fortuna, CA, 345° radials; Fortuna; INT Fortuna 170° and Mendocino, CA, 321° radials; Mendocino; INT Point Reyes, CA, 006° and Scaggs Island, CA, 314° radials; Sacramento, CA; INT Sacramento 038° and Palisades, CA, 249° radials; Palisades; INT Palisades 078° and Hazen, NV, 244° radials; to Hazen.

* * * * *

Paragraph 6011 United States Area Navigation Routes.

* * * * *

T-331 FRAME, CA to FONIA, ND [Amended]
FRAME, CA | FIX | (Lat. 36°36′46.74″ N, long. 119°40′25.53″ W)
NTELL, CA | WP | (Lat. 36°53′58.99″ N, long. 119°53′22.21″ W)
KARNN, CA | FIX | (Lat. 37°09′03.79″ N, long. 121°16′45.22″ W)
VINCO, CA | FIX | (Lat. 37°22′35.11″ N, long. 121°42′59.52″ W)
NORCL, CA | WP | (Lat. 37°31′02.66″ N, long. 121°43′10.60″ W)
MOVDD, CA | WP | (Lat. 37°39′40.88″ N, long. 121°26′53.53″ W)
EVETT, CA | WP | (Lat. 38°00′36.11″ N, long. 121°07′48.14″ W)
TIPRE, CA | WP | (Lat. 38°12′21.00″ N, long. 121°02′09.00″ W)
Palisades, CA (SWR) | VOR/DME | (Lat. 39°10′49.16″ N, long. 120°16′10.60″ W)
TRUCK, CA | FIX | (Lat. 39°26′15.67″ N, long. 120°09′42.48″ W)
Mustang, NV (FMG) | VORTAC | (Lat. 39°31′52.60″ N, long. 119°39′21.87″ W)
Lovelock, NV (LLC) | VORTAC | (Lat. 40°07′30.95″ N, long. 118°34′39.34″ W)
Battle Mountain, NV (BAM) | VORTAC | (Lat. 40°34′08.69″ N, long. 116°55′20.12″ W)
TULIE, ID | WP | (Lat. 42°37′58.49″ N, long. 113°06′44.54″ W)
AMFAL, ID | WP | (Lat. 42°45′56.67″ N, long. 112°50′04.64″ W)
Pocatello, ID (PIH) | VOR/DME | (Lat. 42°52′13.38″ N, long. 112°39′08.05″ W)
VIPUC, ID | FIX | (Lat. 43°21′09.64″ N, long. 112°14′44.08″ W)
Idaho Falls, ID (IDA) | VOR/DME | (Lat. 43°31′08.42″ N, long. 112°03′50.10″ W)
SABAT, ID | FIX | (Lat. 44°00′59.71″ N, long. 111°39′55.04″ W)
Billings, MT (BIL) | VORTAC | (Lat. 45°48′30.81″ N, long. 108°37′28.73″ W)
EXADE, MT | FIX | (Lat. 47°35′56.78″ N, long. 104°32′40.61″ W)
JEKOK, ND | WP | (Lat. 47°59′31.05″ N, long. 103°27′17.51″ W)
FONIA, ND | FIX | (Lat. 48°15′35.07″ N, long. 103°10′37.54″ W)

Issued in Washington, DC, on May 9, 2023.
Brian Konie,
Acting Manager, Airspace Rules and Regulations.

[FR Doc. 2023-10280 Filed 5-12-23; 8:45 am]

BILLING CODE 4910-13-P